DEPARTMENT OF LABOR

Employment and Training Administration

[TA-W-83,227; TA-W-83,227A; TA-W-83,227B]

Avery Products, a Publicly Reportable Operating Segment of CCL Industries, Inc. Including On-Site Leased Workers From United Personnel, Zero Chaos, Integration International, and Manpower Chicopee, Massachusetts; Avery Products, a Publicly Reportable Operating Segment of CCL Industries, Inc. Including On-Site Leased Workers From Robert Half Holliston, Massachusetts; Avery Products, Including On-Site Leased Workers From Workforce Logic, Adecco, Hewlett Packard, Insight Global, Manpower, Trithian, Zero Chaos, and Procure Staff Brea, California; Amended Certification Regarding Eligibility To Apply for Worker Adjustment Assistance

In accordance with Section 223 of the Trade Act of 1974, as amended (“Act”), 19 U.S.C. 2273, the Department of Labor issued a Certification of Eligibility to Apply for Worker Adjustment Assistance on December 17, 2013, applicable to workers and former workers of Avery Products, a publicly reporting operating segment of CCL Industries, Inc., including on-site leased workers from United Personnel, Zero Chaos, Integration International, and Manpower, Chicopee, Massachusetts (TA-W-83,227) and Avery Products, a publicly reporting operating segment of CCL Industries, Inc., including on-site leased workers from Robert Half Holliston, Massachusetts (TA-W-83,227A). The subject workers are engaged in activities related to the supply of office products (binders, labels, dividers, writing instruments, etc.)

The subject firm confirmed that Avery Products, including on-site leased workers from Workforce Logic, Adecco, Hewlett Packard, Insight Global, Manpower, Trithian, Zero Chaos, and Procure Staff, Brea, California (TA-W-83,227B) is part of the subject worker group; the subject workers are engaged in activities related to the supply of support services to the Holliston and Chicopee facilities; and the subject workers are affected by the shift in production to a foreign country.

The amended notice applicable to TA-W-83,227 is hereby issued as follows:

“All workers of Avery Products, a publicly reporting operating segment of CCL Industries, Inc., including on-site leased workers from United Personnel, Zero Chaos, Integration International, and Manpower, Chicopee, Massachusetts (TA-W-83,227), Avery Products, a publicly reporting operating segment of CCL Industries, Inc., including on-site leased workers from Robert Half Holliston, Massachusetts (TA-W-83,227A), and Avery Products, including on-site leased workers from Workforce Logic, Adecco, Hewlett Packard, Insight Global, Manpower, Trithian, Zero Chaos, and Procure Staff, Brea, California (TA-W-83,227B) who became totally or partially separated from employment on or after November 19, 2012, and all workers in the group threatened with total or partial separation from employment on date of certification through December 17, 2015, are eligible to apply for adjustment assistance under Chapter 2 of Title II of the Trade Act of 1974, as amended.”

Signed in Washington, DC this 28th day of May, 2014.
Del Min Amy Chen,
Certifying Officer, Office of Trade Adjustment Assistance.

[FR Doc. 2014-13188 Filed 6-5-14; 8:45 am]

BILLING CODE 4510-FN-P